DEPARTMENT OF LABOR

Employment and Training Administration

[TA-W-72,764]

International Paper Company, Franklin Pulp & Paper Mill, Including On-Site Leased Workers From Railserve, Franklin, VA; Amended Certification Regarding Eligibility To Apply for Worker Adjustment Assistance

In accordance with section 223 of the Trade Act of 1974, as amended (“Act”), 19 U.S.C. 2273, the Department of Labor issued a Certification of Eligibility to Apply for Worker Adjustment Assistance on December 17, 2009, applicable to workers and former workers of International Paper Company, Franklin Pulp & Paper Mill, Franklin, Virginia. The notice was published in the Federal Register on February 16, 2010 (75 FR 7034). The workers are engaged in the production of uncoated freesheet paper and coated paperboard. On April 27, 2010, the Department issued an amended certification to include on-site leased workers of Railserve. The notice of amended certification was published in the Federal Register on May 12, 2010 (75 FR 26794).

Following a careful a review of new and previously-submitted information, the Department determined that the subject worker group meet the criteria of Section 222(a) of the Trade Act of 1974, as amended. The Department has determined that increased imports of articles like or directly competitive with those produced by the subject firm contributed importantly to sales and/or production decline and worker separations at the Franklin, Virginia facility.

The amended notice applicable to TA-W-72,764 is hereby issued as follows:

All workers International Paper Company, Franklin Pulp & Paper Mill, including on-site leased workers from Railserve, Franklin, Virginia, who became totally or partially separated from employment on or after November 3, 2008, through December 17, 2011, and all workers in the group threatened with total or partial separation from employment on the date of certification through two years from the date of certification, are eligible to apply for adjustment assistance under Chapter 2 of Title II of the Trade Act of 1974, as amended.

Signed at Washington, DC, this 22nd day of December 2010.
Del Min Amy Chen,
Certifying Officer, Office of Trade Adjustment Assistance.

[FR Doc. 2011-514 Filed 1-11-11; 8:45 am]

BILLING CODE 4510-FN-P